INTERNATIONAL TRADE COMMISSION

[Investigation No. 731-TA-1415 (Final)]

Glycine From Thailand

Determination

On the basis of the record ¹ developed in the subject investigation, the United States International Trade Commission (“Commission”) determines, pursuant to the Tariff Act of 1930 (“the Act”), that an industry in the United States is materially injured by reason of imports of glycine from Thailand, provided for in subheadings 2922.49.43 and 2922.49.80 of the Harmonized Tariff Schedule of the United States, that have been found by the U.S. Department of Commerce (“Commerce”) to be sold in the United States at less than fair value (“LTFV”).2 3 4

¹ The record is defined in sec. 207.2(f) of the Commission's Rules of Practice and Procedure (19 CFR 207.2(f)).

² 84 FR 37998, August 5, 2019.

³ Commissioners Randolph J. Stayin and Amy A. Karpel did not participate in this investigation.

⁴ The Commission also finds that imports subject to Commerce's affirmative critical circumstances determination are not likely to undermine seriously the remedial effect of the antidumping duty order on Thailand.

Background

The Commission, pursuant to section 735(b) of the Act (19 U.S.C. 1673d(b)), instituted this investigation effective March 28, 2018, following receipt of petitions filed with the Commission and Commerce by Chattem Chemicals Inc., Chattanooga, Tennessee, and GEO Specialty Chemicals, Inc., Lafayette, Indiana. Effective October 31, 2018, the Commission established a general schedule ⁵ for the conduct of the final phase of its antidumping and countervailing duty investigations on glycine from China, India, Japan, and Thailand, following notification of preliminary determinations by Commerce that imports of glycine from China and India were subsidized within the meaning of section 703(b) of the Act (19 U.S.C.1671b(b)) and that imports of glycine from India and Japan were being sold at LTFV within the meaning of 733(b) of the Act (19 U.S.C. 1673b(b)).⁶ Notice of the scheduling of the final phase of the Commission's investigations and of a public hearing to be held in connection therewith was given by posting copies of the notice in the Office of the Secretary, U.S. International Trade Commission, Washington, DC, and by publishing the notice in the Federal Register on December 3, 2018 (83 FR 62345).⁷ The hearing was held in Washington, DC, on April 30, 2019 and all persons who requested the opportunity were permitted to appear in person or by counsel. On May 1, 2019, Commerce published its final affirmative determinations for its countervailing duty investigations for glycine from China and India and also for its antidumping duty investigations for glycine from India and Japan.⁸ On April 24, 2019, Commerce postponed until further notice the issuance of the final determination regarding glycine from Thailand. (See Memorandum from Gary Taverman, Deputy Assistant Secretary for Antidumping and Countervailing Duty Operations, to Jeffrey Kessler, Assistant Secretary for Enforcement and Compliance, “Postponement of the Final Determinations in the Less-Than-Fair Value and Countervailing Duty Investigations of Glycine from Thailand,” April 24, 2019.) The Commission issued its affirmative determinations for its countervailing duty investigations for glycine from China and India and its antidumping duty investigations for India and Japan on June 14, 2019.⁹ Following notification of a final determination by Commerce that imports of glycine from Thailand were being sold at LTFV within the meaning of section 735(a) of the Act (19 U.S.C. 1673d(a)),¹⁰ notice of the supplemental scheduling of the final phase of the Commission's antidumping duty investigation with respect to glycine from Thailand was given by posting copies of the notice in the Office of the Secretary, U.S. International Trade Commission, Washington, DC, and by publishing notice in the Federal Register of August 23, 2019 (84 FR 44334).

⁵ 83 FR 62345, December 3, 2018.

⁶ Commerce issued preliminary negative determinations on its antidumping and countervailing duty investigations for glycine from Thailand (83 FR 54717 and 83 FR 44861).

⁷ Due to the lapse in appropriations and ensuing cessation of Commission operations, the Commission published its revised schedule on February 12, 2019.

⁸ 84 FR 18489, 84 FR 18482, 84 FR 18487, and 84 FR 18484, respectively.

⁹ 84 FR 29238, June 21, 2019.

¹⁰ On August 5, 2019, Commerce published in the Federal Register its final affirmative determination of sales at less than fair value and of critical circumstances for glycine from Thailand (84 FR 37998) as well as its final negative countervailing duty determination and final negative critical circumstances determination for glycine from Thailand (84 FR 38007). Consequently, effective August 5, 2019, the Commission terminated its countervailing duty investigation concerning glycine from Thailand (84 FR 43618, August 21, 2019).

The Commission made this determination pursuant to section 735(b) of the Act (19 U.S.C. 1673d(b)). It completed and filed its determination in this investigation on October 8, 2019. The views of the Commission are contained in USITC Publication 4977 (October 2019), entitled Glycine from Thailand: Investigation No. 731-TA-1415 (Final).

By order of the Commission.
Issued: October 9, 2019.
Lisa Barton,
Secretary to the Commission.

[FR Doc. 2019-22421 Filed 10-11-19; 8:45 am]

BILLING CODE 7020-02-P